DEPARTMENT OF COMMERCE

International Trade Administration

[C-489-502]

Certain Welded Carbon Steel Standard Pipe from Turkey: Notice of Initiation of Countervailing Duty New Shipper Review

AGENCY: Import Administration, International Trade Administration, Department of Commerce.

EFFECTIVE DATE: May 2, 2006.

SUMMARY: The Department of Commerce (“the Department”) has received a request to conduct a new shipper review of the countervailing duty (“CVD”) order on certain welded carbon steel standard pipe from Turkey. In accordance with section 751(a)(2)(B) of the Tariff Act of 1930, as amended (“the Act”), and 19 CFR 351.214, we are initiating a CVD new shipper review for Tosçelik Profil ve Sac Endustrisi A.S. (“Tosçelik”), and its affiliated export trading company, Tosyali Dis Ticaret A.S. (“Tosyali”).

FOR FURTHER INFORMATION CONTACT: Kristen Johnson, AD/CVD Operations, Office 3, Import Administration, International Trade Administration, U.S. Department of Commerce, 14th Street and Constitution Avenue, NW., Washington, DC 20230; telephone: (202) 482-4793

SUPPLEMENTARY INFORMATION:

Background

On March 30, 2006, the Department received a timely request from Tosçelik, in accordance with 19 CFR 351.214(c), for a new shipper review of the CVD order on certain welded carbon steel standard pipe from Turkey, which has a March anniversary month.¹

¹ See Countervailing Duty Order: Certain Welded Carbon Steel Pipe and Tube Products from Turkey, 51 FR 7984 (March 7, 1986).

As required by 19 CFR 351.214(b)(2)(i) and (iii)(A), Tosçelik certified that it did not export subject merchandise to the United States during the period of investigation (“POI”), and that it has never been affiliated with any exporter or producer that exported subject merchandise during the POI.² Pursuant to 19 CFR 351.214(b)(2)(iv), the company submitted documentation establishing the date on which it first shipped the subject merchandise to the United States, the date of entry of that first shipment, the volume of that and subsequent shipments, and the date of the first sale to an unaffiliated customer in the United States. Tosçelik also certified that, in accordance with 19 CFR 351.214(b)(2)(v), it has informed the Government of the Republic of Turkey that it will be required to provide a full response to the Department's questionnaire.³

² See the March 30, 2006, submission to the Department from Tos elik and Tosyali regarding Request for New Shipper CVD Review.

³ Id.

Initiation of Review

In accordance with section 751(a)(2)(B) of the Act and 19 CFR 351.214, and based on information on the record, we are initiating a CVD new shipper review for Tosçelik. We intend to issue the preliminary results of this new shipper review no later than 180 days after initiation of this review.⁴ We intend to issue final results of this review no later than 90 days after the date on which the preliminary results are issued.⁵

⁴ See 19 CFR 351.214(i).

⁵ Id.

New Shipper Review Proceeding | Period To Be Reviewed
Tosçelik | 01/01/2005 - 12/31/2005

In accordance with section 751(a)(2)(B)(iii) of the Act and 19 CFR 351.214(e), we will instruct U.S. Customs and Border Protection to allow, at the option of the importer, the posting, until the completion of the review, of a bond or security in lieu of a cash deposit for each entry of the subject merchandise exported by Tosyali. We will apply the bonding option under 19 CFR 351.107(b)(1)(i) only to entries from Tosyali for which the respective producer under review is Tosçelik.

Interested parties that need access to proprietary information in this new shipper review should submit applications for disclosure under administrative protective orders in accordance with 19 CFR 351.305 and 351.306.

This initiation and notice are in accordance with section 751(a) of the Act (19 U.S.C. 1675(a)) and 19 CFR 351.214(d).

Dated: April 26, 2006.
Stephen J. Claeys,
Deputy Assistant Secretary for Import Administration.

[FR Doc. E6-6624 Filed 5-1-06; 8:45 am]

Billing Code: 3510-DS-S